DEPARTMENT OF COMMERCE

National Oceanic and Atmospheric Administration

RIN 0648-XE698

Endangered and Threatened Species; Draft Recovery Plan for Puget Sound/Georgia Basin Yelloweye Rockfish and Bocaccio

AGENCY: National Marine Fisheries Service (NMFS), National Oceanic and Atmospheric Administration (NOAA), Commerce.

ACTION: Notice of availability; request for comments.

SUMMARY: The National Marine Fisheries Service (NMFS) announces the availability of the Puget Sound/Georgia Basin Yelloweye rockfish (Sebastes ruberrimus) and Bocaccio (S. paucispinis) Draft Recovery Plan (Plan) for public review. NMFS is soliciting review and comment from the public and all interested parties on the draft Plan, and will consider all substantive comments received during the review period before submitting the Plan for final approval.

DATES: Comments and information on the draft Plan must be received by close of business on November 14, 2016.

ADDRESSES: You may submit comments on this document, identified by NOAA-NMFS-2016-0083 by either of the following methods:

• Electronic Submissions: Submit all electronic public comments via the Federal e-Rulemaking Portal. Go to www.regulations.gov/#!docketDetail;D=NOAA-NMFS-2016-0083. Click the “Comment Now!” icon, complete the required fields, and enter or attach your comments.

• Mail: Submit written comments to Chris Yates, Assistant Regional Administrator, Protected Resources Division, NMFS, West Coast Regional Office, Attn: Dan Tonnes 7600 Sand Point Way NE., Seattle, WA 98115.

Instructions: You must submit comments by one of the above methods to ensure that we receive, document, and consider them. Comments sent by any other method, to any other address or individual, or received after the end of the comment period, may not be considered. All comments received are a part of the public record and will generally be posted for public viewing on http://www.regulations.gov without change. All personal identifying information (e.g., name, address, etc.), confidential business information, or otherwise sensitive information submitted voluntarily by the sender will be publicly accessible. We will accept anonymous comments (enter “N/A” in the required fields if you wish to remain anonymous).

FOR FURTHER INFORMATION CONTACT: Dan Tonnes (206-526-4643), email Dan.Tonnes@noaa.gov; or Jennifer Sawchuk (360-561-4025), email Jennifer.Sawchuk@noaa.gov.

SUPPLEMENTARY INFORMATION:

Background

On April 28, 2010, we listed the Puget Sound/Georgia Basin Distinct Population Segments (DPSs) of yelloweye rockfish and canary rockfish as threatened under the ESA, and the Puget Sound/Georgia Basin DPS of bocaccio as endangered (75 FR 22276). The DPS determinations for Puget Sound/Georgia Basin yelloweye rockfish, canary rockfish, and boccacio were informed by the best available scientific and commercial data and the status review conducted by a Biological Review Team (BRT) (Drake et al., 2010). The final critical habitat rule for the listed DPSs of rockfish was published in the Federal Register on November 1, 2014 (79 FR 68041).

In 2013, we appointed a recovery team and initiated recovery planning for the listed rockfish species. Through the process of recovery planning, priority research and recovery actions emerged. One such action was to seek specific genetic data for each of the listed rockfish species to better evaluate and determine whether differences exist in the genetic structure of the listed species' populations between inland basins where the DPSs occur and the outer coast. In 2014 and 2015, we partnered with the Washington Department of Fish and Wildlife, several local fishing guides, and anglers including anglers from the Puget Sound Anglers and the Kitsap Pogie Club to collect samples and compare the genetic structure of the species' populations between the different basins of the Puget Sound/Georgia Basin DPSs area and the outer coast.

In 2015 we announced a 5-year review (80 FR 6695; February 6, 2015) for the three rockfish DPSs and genetics information from the above cooperative study was included in the review. The 5-year review was completed May 5, 2016 (NMFS 2016) and is available at http://www.westcoast.fisheries.noaa.gov/publications/protected_species/other/rockfish/5.5.2016_5yr_review_report_rockfish.pdf. To complete the review, we collected, evaluated, and incorporated all information on the species that has become available since April 2010, the date of the listing, including the 2014 final critical habitat designation and the newly obtained genetic information.

The BRT found that current genetic data evaluated and interpreted in the context of all available scientific information now provides strong evidence that canary rockfish of the Puget Sound/Georgia Basin are not discrete from coastal area canary rockfish. Based on the BRT findings, and best available science and commercial information, and in accordance with the DPS policy (61 FR 4722; February 7, 1996), we determined that the canary rockfish of the Puget Sound/Georgia Basin do not meet the criteria to be considered a DPS and recommended delisting canary rockfish in the 5-year review (NMFS 2016). The new genetics information confirmed the existence of an inland population of Puget Sound/Georgia Basin yelloweye rockfish that is discrete from coastal yelloweye rockfish, and there was not information to change our prior status review determination that Puget Sound/Georgia Basin bocaccio are discrete from coastal fish (Ford, 2015). Based on the new information and recommendation in the 5-year review, we published a proposed rule to remove Puget Sound/Georgia Basin canary rockfish from the Federal List of Threatened and Endangered Species (81 FR 43979; July 6, 2016). The Puget Sound/Georgia Basin yelloweye rockfish DPS shall remain threatened under the ESA, and the Puget Sound/Georgia Basin bocaccio DPS shall remain endangered. Therefore, this draft recovery plan is for yelloweye rockfish and bocaccio and does not include canary rockfish.

Draft Recovery Plan

Recovery plans describe actions beneficial to the conservation and recovery of species listed under the Endangered Species Act of 1973 (ESA), as amended (16 U.S.C. 1531 et seq.). Section 4(f)(1) of the ESA requires that recovery plans incorporate: (1) Objective, measurable criteria which, when met, would result in a determination that the species is no longer threatened or endangered; (2) site-specific management actions necessary to achieve the Plan's goals; and (3) estimates of the time required and costs to implement recovery actions. The ESA requires the development of recovery plans for each listed species unless such a plan would not promote its recovery.

The Draft Recovery Plan for Yelloweye Rockfish and Bocaccio of the Puget Sound/Georgia Basin was developed by NMFS in cooperation with a recovery team made up of experts from the University of Washington, the Washington Department of Fish and Wildlife, the Northwest Fisheries Science Center, and the Northwest Indian Fisheries Commission. Additionally, a number of scientists have provided peer review and individuals from the Rockfish Workgroup, a group of diverse stakeholders, have also provided research ideas.

The BRT appointed to assess the status of the petitioned rockfish in 2008 found that the total rockfish abundance in the Puget Sound/Georgia Basin has declined by 70 percent, and that yelloweye rockfish and bocaccio have declined to an even greater extent (Drake et al., 2010). NMFS's goal is to restore the threatened yelloweye rockfish DPS and the endangered bocaccio DPS of the Puget Sound/Georgia Basin to the point where they are again secure, self-sustaining members of their ecosystems and no longer need the protections of the ESA. The Plan provides background on the natural history of yelloweye rockfish and bocaccio, population trends, and the potential threats to their viability. The Plan lays out a recovery strategy to address the potential threats based on the best available science, identifies site-specific actions with time lines and costs, and includes recovery goals and criteria. NMFS concludes that the Plan meets the requirements of the ESA.

The primary factors responsible for the decline of the DPSs of rockfishes were overutilization for commercial and recreational purposes, habitat degradation, water quality problems including low dissolved oxygen and elevated contaminant levels, and inadequacy of existing regulatory mechanisms to address bycatch (75 FR 22276, April 28, 2010). The Plan assesses these factors and other threats using the best available and commercial data, provides current information and conservation measures to assess, rank and prioritize, and provide guidance to address the threats. In some cases, more information is needed to understand the extent or if the threat is limiting recovery, and in those cases research to address these data gaps is outlined. This Plan contains both demographic and threats-based criteria for down- and delisting bocaccio and delisting criteria for yelloweye rockfish.

The Plan is not regulatory, but presents guidance for use by agencies and interested parties to assist in the recovery of yelloweye rockfish and bocaccio. The Plan identifies substantive actions needed to achieve recovery by assessing the species' population abundance, distribution, and genetic changes over time and addressing the threats to the species. When determining recovery actions, the Plan prioritized actions that increase knowledge of the species themselves, threats ranked as high risk threats, and aims to improve understanding of whether a particular threat is limiting recovery and to eliminate or mitigate that threat, or to improve our understanding of, and ability to manage, that threat. The actions in the Plan include research, management, monitoring, and outreach efforts, because a comprehensive approach to yelloweye rockfish and bocaccio recovery is likely to have greater success than focusing on any one type of action. There are also actions targeted at incorporating new information and conducting regular reassessments, making this Plan an adaptive management plan.

We expect the Plan to inform section 7 consultations with Federal agencies under the ESA and to support other ESA decisions, such as considering permits under section 10. We have already begun implementation of several actions as described in the plan, such partnering with the Washington Department of Fish and Wildlife to conduct remotely operated vehicle surveys to assess listed rockfish abundance, distribution, and habitat use. After public comment and the adoption of the Final Recovery Plan, we will continue to implement actions in the plan for which we have authority, work cooperatively on implementation of other actions, and encourage other Federal and state agencies to implement recovery actions for which they have responsibility and authority. There are several Appendices in the Plan intended to assist with implementation of actions to address specific threats.

Because of the life histories of yelloweye rockfish and bocaccio, once populations are at a low level, recovery can require decades (Parker et al., 2000; Love et al., 2002). In particular, rockfish grow slowly, have a long life span and low natural mortality rates, mature late in life, often have sporadic reproductive success from year to year, may display high fidelity to specific habitats and locations, and require a diverse genetic and age structure to maintain healthy populations (Love et al., 2002). Recovery of yelloweye rockfish and bocaccio will require a long-term effort and will require cooperation and coordination of Federal, state, tribal and local government agencies, and the community.

The total time and cost to recovery are difficult to predict with the current information. The Plan outlines recovery research and actions, priority numbers, and estimated rockfish recovery program cost over a 5-year period. Projections of which actions may continue beyond year 5 are provided, but there is uncertainty regarding how long recovery will take. Currently, we do not have reliable biomass information for yelloweye rockfish and bocaccio. As prioritized information is obtained on present and past biomass, as well as additional information to assess the impact on how some threats may limit recovery and how the threats can be effectively managed or mitigated, more robust time and expense projections can be developed.

The cost of the approximately 45 actions recommended in this Plan for the first 5 years of recovery is approximately $23,360,000. Assuming that recovery takes one and a half generations (of yelloweye rockfish) or approximately 60 years, the total recovery costs over 60 years would be approximately $82,970,000. The annual cost of recovery is estimated to decrease substantially after the first 5 to 10 years, once the necessary baseline research and management actions are performed. There are numerous parallel efforts underway, independent from listed rockfish recovery, to protect and restore the Puget Sound ecosystem. Such efforts include oil-spill prevention measures, contaminated sediment clean-up projects, and other important projects. These efforts will provide benefits to listed rockfish and their habitats and prey base and are thus highlighted in the plan. However, the costs of these actions are not included in the total cost of listed rockfish recovery because they would occur independent of this Plan. Similarly, actions conducted to restore listed rockfish and their habitats will benefit other listed species that utilize the Puget Sound area, such as Puget Sound Chinook salmon (Oncorhynchus tshawytscha), and may provide economic benefits. We are unable to quantify the economic benefits of listed rockfish recovery actions, but it is likely the benefits to the ecosystem and economy would offset the total recovery costs estimated in the Plan.

NMFS requests and will consider all substantive comments and information presented during the public comment period as we finalize this Plan. Public meetings will be held to provide information about the Plan and to receive public comments. The meetings will be held at in Olympia (The Olympia Center, Room B, 222 Columbia St. NW., Olympia, WA) on Thursday, October 6, 2016 at 7pm; in Friday Harbor (Brick Works, 150 Nichols St., Friday Harbor, WA) on Tuesday, October 18, 2016 at 7pm; in Anacortes (City Council Chambers, Anacortes City Hall, 904 6th St., Anacortes, WA) on Wednesday, October 19, 2016 at 7pm; and in Seattle (Seattle Aquarium, Puget Sound Hall, 1483 Alaskan Way, Seattle, WA) on Thursday October 20, 2016 at 7 p.m.

References Cited

The complete citations for the references used in this document can be obtained by contacting NMFS (See ADDRESSES and FOR FURTHER INFORMATION CONTACT) or on our Web page at: http://www.westcoast.fisheries.noaa.gov/protected_species/rockfish/rockfish_in_puget_sound.html. http://www.westcoast.fisheries.noaa.gov/.

Authority: 16 U.S.C. 1531 et seq.

Dated: August 9, 2016.
Angela Somma,
Chief, Endangered Species Conservation Division, Office of Protected Resources, National Marine Fisheries Service.

[FR Doc. 2016-19459 Filed 8-15-16; 8:45 am]

BILLING CODE 3510-22-P